NATIONAL SCIENCE FOUNDATION

Agency Information Collection Activities: Comment Request; Education and Human Resources Project Monitoring Clearance

AGENCY: National Science Foundation.

ACTION: Notice.

SUMMARY: Under the Paperwork Reduction Act of 1995, Pub. L. 104-13 (44 USC U.S.C. 3506(c)(2)(A)), and as part of its continuing effort to reduce paperwork and respondent burden, the National Science Foundation invites the general public and other Federal agencies to take this opportunity to comment on this information collection. This is the second notice for public comment; the first was published in the Federal Register at 77 FR 56234 and no comments were received. NSF is forwarding the proposed submission to the Office of Management and Budget (OMB) for clearance simultaneously with the publication of this second notice. The full submission may be found at: http://www.reginfo.gov/public/do/PRAMain.

DATES: Comments regarding these information collections are best assured of having their full effect if received by OMB within 30 days of publication in the Federal Register.

ADDRESSES: Written comments regarding the information collection and requests for copies of the proposed information collection request should be addressed to Suzanne Plimpton, Reports Clearance Officer, National Science Foundation, 4201 Wilson Blvd., Rm. 295, Arlington, VA 22230, or by email to splimpto@nsf.gov. Copies of the submission may be obtained by calling (703) 292-7556.

FOR ADDITIONAL INFORMATION: Contact Suzanne Plimpton, the NSF Reports Clearance Officer, phone (703) 292-7556, or send email to splimpto@nsf.gov. Individuals who use a telecommunications device for the deaf (TDD) may call the Federal Information Relay Service (FIRS) at 1-800-877-8339, which is accessible 24 hours a day, 7 days a week, 365 days a year (including federal holidays).

An agency may not conduct or sponsor a collection of information unless the collection of information displays a currently valid OMB control number and the agency informs potential persons who are to respond to the collection of information that such persons are not required to respond to the collection of information unless it displays a currently valid OMB control number.

SUPPLEMENTARY INFORMATION: Title of Collection: A Survey of Program Evaluation of the National Science Foundation's Discovery Research K-12 (DR K-12) Program

OMB Approval Number: 3145-NEW.

Type of Request: Intent to seek approval to establish an information collection.

Abstract: In compliance with the requirement of Section 3506(c)(2)(A) of the Paperwork Reduction Act of 1995, for opportunity for public comment on proposed data collection projects, the Office of the Director, the National Science Foundation (NSF), will publish periodic summaries of proposed projects to be submitted to the Office of Management and Budget (OMB) for review and approval.

A Survey of Principal Investigators for the National Science Foundation's Discovery Research K-12 (DR K-12) program. Type of Information Collection Request: New collection. Need and Use of Information Collection: This study will assess the implementation of resources, models, and technologies to determine how and why implementation affects STEM learning, to inform program improvement, and to enhance understanding of both what the program is accomplishing and how. The primary objectives of the study are to conduct a survey of principal investigators of the DR-K12 programs to understand the impact and influence of the DRK-12 program and to identify the links between the DR K-12 program and other NSF programs. The findings will provide valuable information concerning the impacts and influences of the granting program and grantees and the extent to which DR K-12 program influence broader American society.

Frequency of Response: Once.

Affected Public: Individuals.

Type of Respondents: DR K-12 Principal Investigators. There are no Capital Costs to report.

Estimated Number of Respondents: 388; Estimated Number of Responses per Respondent: 1: Average Burden Hours Per Response: .30. Estimated Total Annual Burden Hours Requested: 194.00 and the annualized cost to respondents is estimated at $6208.

Comments: Comments are invited on (a) whether the proposed collection of information is necessary for the proper performance of the functions of the NSF, including whether the information shall have practical utility; (b) the accuracy of the NSF's estimate of the burden of the proposed collection of information; (c) ways to enhance the quality, utility, and clarity of the information on respondents, including through the use of automated collection techniques or other forms of information technology; (d) ways to minimize the burden of the collection of information on those who are to respond, including through the use of appropriate automated, electronic, mechanical or other technological collection techniques or other forms of information technology.

Dated: January 30, 2013.
Suzanne H. Plimpton,
Reports Clearance Officer, National Science Foundation.

[FR Doc. 2013-02379 Filed 2-4-13; 8:45 am]

BILLING CODE 7555-01-P